DEPARTMENT OF HEALTH AND HUMAN SERVICES

Centers for Disease Control and Prevention

[60Day-02-78]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS D-24, Atlanta, GA 30333.

Proposed Project: Clinician's Management Approach to Children with Pharyngitis—New—National Center for Infectious Diseases (NCID), Centers for Disease Control and Prevention (CDC). The purpose of this study is to determine factors associated with appropriate management of children with pharyngitis. We will characterize office laboratory methods currently used by clinicians to diagnose pharyngitis caused by group A streptococcus (GAS), including rapid antigen detection test (RADT) and throat cultures, and also assess clinicians' treatment approaches for pharyngitis.

The specific goals for this study on children with pharyngitis are:

1. To evaluate current diagnostic methods and treatment approaches for children with pharyngitis by primary care practitioners (pediatricians and family practitioners).

2. To identify factors associated with the use of appropriate laboratory methods by primary care practitioners.

3. To assess the treatment regimen including antimicrobial choices, length and goals of therapy.

4. To determine the impact of full implementation of CLIA on the performance of these tests in office settings.

The investigators will send out an eight-page questionnaire to a sample of 1000 members in each, the American Academy of Pediatrics and the American Academy of Family Practitioners. The survey includes questions on demographics; diagnostic approaches (including types of RADTs and cultures used); logistics in using the diagnostics (such as level of training of the personnel performing the tests, nature of quality control); clinicians' perception and understanding of the RADTs, including published sensitivity and specificity figures; and impact of CLIA (such as any change on the use of RADTs and culture). One month after the first mailing, each individual will be sent a second mailing to maximize the opportunity to complete the survey.

The study population consists of primary care physicians from pediatrics and family practice. These physicians will be from all areas of the United States and, therefore, from diverse geographic locations. There is no cost to respondents.

Respondents | No. of respondents | No. of responses/ respondent | Avg. burden/ response (in hours) | Total burden (in hours)
Physicians | 2000 | 1 | 12/60 | 400
Total |  |  |  | 400

Dated: September 11, 2002.
Nancy E. Cheal,
Acting Deputy Director for Policy, Planning and Evaluation, Centers for Disease Control and Prevention.

[FR Doc. 02-23680 Filed 9-17-02; 8:45 am]

BILLING CODE 4163-18-P